DEPARTMENT OF TRANSPORTATION

Federal Aviation Administration

14 CFR Part 39

[Docket No. FAA-2014-0251; Directorate Identifier 2013-NM-179-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A330-200 Freighter, A330-200, A330-300, A340-200, -300, -500, and -600 series airplanes. This proposed AD was prompted by a determination that the service life limits of the cabin pressure control system (CPCS) safety valves installed on the aft pressure bulkhead were being exceeded. This proposed AD would require repetitive replacement of the CPCS safety valves with serviceable valves. We are proposing this AD to prevent exceeding the service life limits of the CPCS safety valves, which, in the event of a failure, could result in excessive positive or negative differential pressure in the fuselage and consequent incapacitation or injuries to airplane occupants.

DATES: We must receive comments on this proposed AD by June 30, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0251; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2014-0251; Directorate Identifier 2013-NM-179-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2013-0201, dated September 4, 2013 (referred to after this as the Mandatory Continuing Airworthiness Information, or “the MCAI”), to correct an unsafe condition for the specified products. The MCAI states:

Investigation results on the Cabin Pressure Control System (CPCS) safety valve demonstrate that this part is subject to repetitive restoration every 50,000 flight hours (FH) or 12 years, but this airworthiness instruction is not yet reflected in the instructions for continuing airworthiness. Moreover, this safety valve, part of the CPCS, is not failure monitored.

In order to maintain the required safety objectives, the CPCS safety valves must be replaced by a serviceable part no later than the above values.

For the reasons describe above, this [EASA] AD requires repetitive replacement of CPCS safety valves.

Exceeding the service life limits of the CPCS safety valve, in the event of a failure, could result in excessive positive or negative differential pressure in the fuselage, and consequent incapacitation or injuries to airplane occupants.

You may examine the MCAI in the AD docket on the Internet at http://www.regulations.gov by searching for and locating Docket No. FAA-2014-0251.

Relevant Service Information

Airbus has issued the following service information:

• Mandatory Service Bulletin A330-21-3154, Revision 01, dated April 10, 2013.

• Mandatory Service Bulletin A340-21-4150, Revision 01, dated April 10, 2013.

• Mandatory Service Bulletin A340-21-5044, Revision 01, dated April 10, 2013.

• Task 21-31.00/09, Remove Safety Valve for Restoration, of Section C-21, Air Conditioning, of Section C, Systems and Power-plant Section of the A330 Maintenance Review Board Report, Revision 14, dated June 2013.

• Task 21-31.00/09, Remove Safety Valve for Restoration, of Section C-21, Air Conditioning, of Section C, Systems and Power-plant Section of the A340 Maintenance Review Board Report, Revision 14, dated June 2013.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 77 airplanes of U.S. registry.

We also estimate that it would take about 25 work-hours per product to comply with the basic requirements of this proposed AD. The average labor rate is $85 per work-hour. Required parts would cost about $9,784 per product. Based on these figures, we estimate the cost of this proposed AD on U.S. operators to be $916,993, or $11,909 per product, per replacement cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2014-0251; Directorate Identifier 2013-NM-179-AD.

(a) Comments Due Date

We must receive comments by June 30, 2014.

(b) Affected ADs

None.

(c) Applicability

This AD applies to Airbus Model A330-201, -202, -203, -223, -223F, -243, -243F, -301, -302, -303, -321, -322, -323, -341, -342, and -343 airplanes; Model A340-211, -212, -213, -311, -312, -313 airplanes; and Model A340-541 and -642 airplanes; certificated in any category; all manufacturer serial numbers.

(d) Subject

Air Transport Association (ATA) of America Code 21, Air conditioning.

(e) Reason

This AD was prompted by a determination that the service life limits of the cabin pressure control system (CPCS) safety valves installed on the aft pressure bulkhead were being exceeded. We are issuing this AD to prevent exceeding the service life limits of the CPCS safety valve, which, in the event of a failure, could result in excessive positive or negative differential pressure in the fuselage, and consequent incapacitation or injuries to airplane occupants.

(f) Compliance

Comply with this AD within the compliance times specified, unless already done.

(g) Replacement of CPCS Safety Valves

(1) For airplanes on which the total number of flight hours accumulated on the CPCS safety valves are known: Replace the CPCS safety valve with a serviceable valve at the later of the times specified in paragraph (g)(1)(i) or (g)(1)(ii) of this AD. Replace the valve in accordance with the Accomplishment Instructions of the applicable service information identified in paragraph (g)(3)(i), (g)(3)(ii), or (g)(3)(iii) of this AD. Repeat the replacement at intervals not to exceed 50,000 flight hours or 12 years accumulated on the CPCS safety valve, whichever occurs first.

(i) Before the safety valve accumulates 50,000 total flight hours or 12 years since first installation or since the last restoration, as applicable, whichever occurs first.

(ii) Within 26 months after the effective date of this AD.

(2) For airplanes on which the total number of flight hours accumulated on the CPCS safety valve are unknown: Replace the CPCS safety valve with a serviceable valve within 26 months after the effective date of this AD, in accordance with the Accomplishment Instructions of the applicable service information identified in paragraph (g)(3)(i), (g)(3)(ii), or (g)(3)(iii) of this AD. Repeat the replacement at intervals not to exceed 50,000 flight hours or 12 years accumulated on the CPCS safety valve, whichever occurs first.

(3) Use the applicable service information identified in paragraph (g)(3)(i), (g)(3)(ii), or (g)(3)(iii) of this AD to accomplish the specified actions in paragraph (g) of this AD.

(i) Airbus Mandatory Service Bulletin A330-21-3154, Revision 01, dated April 10, 2013 (for Model A330-200 Freighter, A330-200 and -300 series airplanes).

(ii) Airbus Mandatory Service Bulletin A340-21-4150, Revision 01, dated April 10, 2013 (for Model A340-200 and -300 series airplanes).

(iii) Airbus Mandatory Service Bulletin A340-21-5044, Revision 01, dated April 10, 2013 (for Model A340-500 and -600 series airplanes).

(h) Definition of Serviceable Valves

For the purposes of this AD, a serviceable CPCS safety valve is a safety valve which has not exceeded the following service life limits, as applicable: 12 years since its manufacturing date, or 50,000 total flight hours since first installation on an airplane, whichever occurs first; or 12 years since its last restoration, or 50,000 total flight hours since its last restoration, whichever occurs first.

(i) Optional Method of Compliance

Accomplishment of Task 21.31.00/09, Remove Safety Valve for Restoration, of Section C-21, Air Conditioning, of Section C, Systems and Power-plant Section of the Airbus A330 Maintenance Review Board Report, Revision 14, dated June 2013; or Airbus A340 Maintenance Review Board Report, Revision 14, dated June 2013; as applicable; constitutes compliance with any replacement required by paragraph (g) of this AD.

(j) Credit for Previous Actions

This paragraph provides credit for actions required by paragraphs (g)(1) and (g)(2) of this AD, if those actions were performed before the effective date of this AD using the service information identified in paragraphs (j)(1), (j)(2), and (j)(3) of this AD, which are not incorporated by reference in this AD.

(1) Airbus Mandatory Service Bulletin A330-21-3154, dated November 17, 2011.

(2) Airbus Mandatory Service Bulletin A340-21-4150, dated November 17, 2011.

(3) Airbus Mandatory Service Bulletin A340-21-5044, dated November 17, 2011.

(k) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or the DAH with a State of Design Authority's design organization approval). For a repair method to be approved, the repair approval must specifically refer to this AD. You are required to ensure the product is airworthy before it is returned to service.

(l) Related Information

(1) Refer to Mandatory Continuing Airworthiness Information (MCAI) European Aviation Safety Agency (EASA) Airworthiness Directive 2013-0201, dated September 4, 2013, for related information. This MCAI may be found in the AD docket on the Internet at http://www.regulations.gov by searching for and locating Docket No. FAA-2014-0251.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on April 14, 2014.
Jeffrey E. Duven,
Manager, Transport Airplane Directorate, Aircraft Certification Service.

[FR Doc. 2014-11187 Filed 5-14-14; 8:45 am]

BILLING CODE 4910-13-P